DEPARTMENT OF THE INTERIOR

Bureau of Reclamation

[RR04311000; 23XR0680A3; RX.01633F04.0020000]

Notice of Intent To Prepare an Environmental Impact Statement on the Middle Rio Grande Lower San Acacia Reach

AGENCY: Bureau of Reclamation, Interior.

ACTION: Notice of intent; request for comments

SUMMARY: The Bureau of Reclamation (Reclamation) intends to prepare an environmental impact statement (EIS) on the Lower San Acacia Reach of the Middle Rio Grande. The project's goals are to increase water delivered to Elephant Butte Reservoir (EBR), maintain and enhance ecosystem health (such as protecting and promoting recovery of endangered species, minimizing river drying, and increasing available habitat), and increase the benefits of system maintenance actions by working with geomorphic trends of the river. Reclamation is seeking suggestions and information on the alternatives and topics to be addressed.

DATES: Submit written comments on the scope of the EIS on or before June 30, 2023.

Reclamation will hold three in-person public scoping meetings on the following dates:

1. June 20, 2023, 5 p.m. to 7 p.m. (MDT), Albuquerque, New Mexico.

2. June 21, 2023, 6 p.m. to 8 p.m. (MDT), Socorro, New Mexico.

3. June 22, 2023, 6 p.m. to 8 p.m., (MDT), Truth or Consequences, New Mexico.

ADDRESSES: Send written scoping comments, requests to be added to the project mailing list, or requests for other special assistance needs via email to bor-sha-aao-lsari@usbr.gov.

The meetings will be held at the following locations:

1. Albuquerque—International District Library, 7601 Central Ave., Albuquerque, New Mexico 87108.

2. Socorro—New Mexico Institute of Mining and Technology Macey Center, Upper Lobby, 909 Olive Lane, Socorro, New Mexico 87801.

3. Truth or Consequences—Sierra County Fairgrounds, Albert J. Lyon Event Center, 2953 S Broadway Street, Truth or Consequences, New Mexico 87901.

To view more information regarding this project, go to https://www.virtualpublicmeeting.com/mrg-lsari-eis.

FOR FURTHER INFORMATION CONTACT: Ashlee Rudolph, Bureau of Reclamation, Albuquerque Area Office, 555 Broadway Blvd. NE, Suite 100, Albuquerque, New Mexico 87102-2352; telephone (505) 462-3631; email bor-sha-aao-lsari@usbr.gov.

Individuals who are deaf, deafblind, hard of hearing, or have a speech disability may dial 711 (TTY, TDD, or TeleBraille) to access telecommunications relay services to contact the above individual during normal business hours or to leave a message or question after hours. You will receive a reply during normal business hours.

SUPPLEMENTARY INFORMATION: This Federal Register notice provides the public with information regarding Reclamation's intent to prepare an EIS pursuant to the National Environmental Policy Act (NEPA) of 1969, as amended. Reclamation will hold public scoping meetings to solicit comments on the scope of the EIS and the issues and alternatives that should be analyzed.

Purpose and Need

Reclamation is authorized to conduct work within the channel and floodplain of the Rio Grande under the Federal Flood Control Acts of 1948 and 1950 (Pub. L. 858 and 516, respectively). Reclamation is also authorized to engage in planning for major rehabilitation and replacement of existing assets under the Reclamation Project Act of 1902 (32 Stat. 388) and supplementary acts; the Water Resources Development Act of 2007, Section 2031 (Pub. L. 110-114); the Omnibus Public Land Management Act of 2009 (Pub. L. 111-11), Title IX, Subtitle G; the Water Resources Planning Act of 1965, as amended (42 U.S.C. 1962a-2); and Department of the Interior Manual Part 707 DM 1.

The US Army Corps of Engineers, Bureau of Indian Affairs, U.S. Fish and Wildlife Service, Bureau of Land Management, Middle Rio Grande Conservancy District, and New Mexico Interstate Stream Commission will be invited to participate as cooperating agencies for the EIS. Other entities will be considered, as necessary, during the EIS process. Reclamation is considering realigning a portion of the Rio Grande from approximately river mile (RM) 74 to RM 54.5 (project, proposed action); this area is part of the Lower San Acacia Reach. Reclamation is the project proponent.

Reclamation and fellow agencies manage the flow of water, transport and deposition of sediment, and environmental resources within the highly dynamic Rio Grande watershed. Reclamation's responsibilities include maintaining the river channel for downstream sediment and water conveyance, maintaining and enhancing ecosystem health, and increasing the benefits of system maintenance actions. At times, these needs conflict with each other. The need to convey water can be at odds with overbank flooding for species' needs and riparian health. The deposition of heavy sediment loads carried by the river, a natural geomorphic process, impedes delivering flows to the EBR and increases maintenance costs. Therefore, maintenance of this system requires understanding and accepting the trade-offs associated with these diverse and often competing needs. Trade-offs associated with the proposed action or alternative actions are to be documented for Reclamation's consideration.

Reclamation and stakeholders identified the need for this project during focused workshops and a value planning study. Most issues during the workshops and value planning study identified sediment imbalance as their root cause which can be linked to agency needs and management practices being at odds with geomorphic trends. Key issues to be addressed by this project are conveyance losses, cost of maintenance on a system with limited benefit, declining of ecosystem health, channel perching, and aging Low Flow Conveyance Channel (LFCC) infrastructure.

The purpose of the proposed action is to deliver water to EBR; maintain and enhance ecosystem health (i.e., protecting and promoting recovery of endangered species, minimizing river drying, increasing available habitat, conserving ecosystem functions), which will help meet requirements under the 2016 Middle Rio Grande Biological Opinion; and increase the benefit-to-cost ratio of system maintenance actions.

Proposed Action and Possible Alternatives

Reclamation intends to realign a portion of the Rio Grande to the west of the existing channel between RM 74 and RM 54.5. Channel realignment will likely consist of multiple segments; it may not include the full distance between RM 74 and RM 54.5. Reclamation is currently considering two preliminary engineering alternatives and the no-action alternative. Reclamation will identify a preferred alternative before a final EIS. The following alternatives are preliminary and may be revised based on public input and internal considerations. The no-action alternative is currently considered Alternative A, where the existing channel between RM 74 and RM 54.5 would remain as-is.

Preliminary Alternative B would involve the construction of a single channel downstream of Bosque del Apache National Wildlife Refuge. A single channel is defined as merging the LFCC with the active river channel. Additional features may include a channel conveying inflow from Elmendorf Drain above RM 69 and secondary high-flow channels, where they are needed. The expected benefits of preliminary Alternative B are improved water delivery and sediment transport by eliminating channel perching, reduced channel incision to allow for improved low-velocity habitat for the Rio Grande silvery minnow (Hybognathus amarus), maintaining or promoting riparian habitat suitable for the southwestern willow flycatcher (Empidonax traillii extimus), and creating more effective operation and maintenance activities by focusing maintenance on a single primary channel with no levees or structures that would need to be protected from the river. Preliminary Alternative B is anticipated to reduce evaporative losses associated with the current LFCC and ponded water between RM 61 and RM 60.

Preliminary Alternative C would involve constructing a two-channel system above RM 64 and rerouting the LFCC between RM 68 and RM 64. Like preliminary Alternative B, the active river channel would be realigned to the west; however, the realignment would start farther downstream and would not intersect the LFCC. The expected benefits of preliminary Alternative C are improved water delivery and sediment transport by eliminating channel perching, increased conveyance within the LFCC, reduced channel incision to allow for improved low-velocity habitat for the Rio Grande silvery minnow, improved management of available southwestern willow flycatcher habitat, and a potential to reduce maintenance activities associated with sediment deposition within the river channel. It is anticipated that preliminary Alternative C would also reduce evaporative losses associated with the current LFCC and ponded water between RM 61 and RM 60.

Project Area (Area of Analysis)

The project area is the Lower San Acacia Reach of the Middle Rio Grande in Socorro County, New Mexico. This EIS focus is between the southern boundary of the Bosque del Apache National Wildlife Refuge at RM 74 (upstream end) to the Silver Canyon and LFCC confluence with the Rio Grande at RM 54.5 (downstream end).

Statutory Authority and Anticipated Permits

NEPA [42 U.S.C. 4321 et seq.] requires Federal agencies to conduct an environmental analysis of their proposed actions to determine whether the actions may significantly affect the human environment. The EIS will analyze the environmental effects of implementing the proposed action and alternatives. In addition to NEPA, various other Federal, state, and local authorizations may be required for the proposed action. Applicable Federal laws include, but are not limited to, the Endangered Species Act, National Historic Preservation Act, and Clean Water Act.

Schedule for the Decision-Making Process

Reclamation will review and consider comments received during scoping and will prepare a scoping report. After the draft EIS is completed, Reclamation will publish a notice of availability and request public comments on the draft EIS. After the public comment period ends, Reclamation will then develop the final EIS; Reclamation anticipates making the final EIS available to the public in late 2024. In accordance with 40 CFR 1506.11, Reclamation will not decide or issue a Record of Decision sooner than 30 days after the final EIS is released. Reclamation anticipates the issuance of a Record of Decision by March 2025.

Public Disclosure

Before including your address, phone number, email address, or other personal, identifying information in your comment submission, please be advised that the entire submission, including your personal identifying information, may be made publicly available at any time. While a commenter may request that Reclamation withhold personal identifying information from public review, Reclamation cannot guarantee that it will be able to do so.

How To Request Reasonable Accommodation

For special assistance at one of the scoping meetings, please contact Ashlee Rudoph (see FOR FURTHER INFORMATION CONTACT section of this notice) or TDD information in the same section, at least 5 working days before the meetings. Information regarding this project is available in alternate formats upon request.

Wayne Pullan,
Regional Director, Upper Colorado Region, Bureau of Reclamation.

[FR Doc. 2023-11468 Filed 5-30-23; 8:45 am]

BILLING CODE 4332-90-P